DEPARTMENT OF JUSTICE

Notice of Lodging of Proposed Consent Decree Under the Clean Air Act

On May 21, 2024, the Department of Justice lodged a proposed Consent Decree with the United States District Court for the Eastern District of Texas in the lawsuit entitled United States of America v. TPC Group LLC, Civil Action No. 24-00187.

In this action, the United States, on behalf of the U.S. Environmental Protection Agency, filed a Complaint and proposed Consent Decree against TPC Group LLC (TPC Group) for violating the chemical accident prevention provisions of the Clean Air Act (“CAA”) at TPC Group's petrochemical manufacturing facilities in Port Neches and Houston, Texas. This case stems in part from a November 27, 2019, explosion at TPC Group's Port Neches facility that resulted in the evacuations of thousands of residents from the City of Port Neches and surrounding areas, released more than 11 million pounds of extremely hazardous substances, caused more than $130 million in offsite property damage, and resulted in other impacts to human health and the environment. In the Complaint, the United States alleges numerous violations of section 112(r) of the CAA, 42 U.S.C. 7412(r), against TPC Group at its Port Neches facility, including those related to the 2019 explosion. The complaint also alleges numerous violations of Section 112(r) of the CAA, 42 U.S.C. 7412(r), at TPC Group's Houston facility, including failing to promptly take corrective actions for hundreds of pieces of process equipment and failing to address conditions similar to those that led to the Port Neches explosions. Under the proposed Consent Decree, TPC Group will pay $12.1 million in civil penalties to be paid through TPC Group's bankruptcy proceedings. TPC Group will also spend approximately $80 million to improve its risk management program and improve safety at both facilities.

The publication of this notice opens a period for public comment on the proposed Consent Decree. Comments should be addressed to the Assistant Attorney General, Environment and Natural Resources Division, and should refer to United States of America v. TPC Group LLC, D.J. Ref. No. 90-5-2-1-12550. All comments must be submitted no later than thirty (30) days after the publication date of this notice. Comments may be submitted either by email or by mail:

To submit comments: | Send them to:
By email | pubcomment-ees.enrd@usdoj.gov.
By mail | Assistant Attorney General, U.S. DOJ—ENRD, P.O. Box 7611, Washington, DC 20044-7611.

Any comments submitted in writing or at a public meeting may be filed in whole or in part on the public court docket without notice to the commenter.

During the public comment period, the proposed Consent Decree may be examined and downloaded at this Justice Department website: http://www.justice.gov/enrd/consent-decrees. If you require assistance accessing the proposed Consent Decree, you may request assistance by email or by mail to the addresses provided above for submitting comments.

Thomas Carroll,
Assistant Section Chief, Environmental Enforcement Section, Environment and Natural Resources Division.

[FR Doc. 2024-11881 Filed 5-30-24; 8:45 am]

BILLING CODE 4410-15-P